INTERNATIONAL TRADE COMMISSION

[Investigation No. 731-TA-709 (Fourth Review)]

Seamless Carbon and Alloy Steel Standard, Line, and Pressure Pipe From Germany

Determination

On the basis of the record ¹ developed in the subject five-year review, the United States International Trade Commission (“Commission”) determines, pursuant to the Tariff Act of 1930 (“the Act”), that revocation of the antidumping duty order on seamless carbon and alloy steel standard, line, and pressure pipe from Germany would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on August 1, 2017 (82 FR 35821, August 1, 2017) and determined on November 6, 2017 that it would conduct an expedited review (82 FR 56267, November 20, 2017).

The Commission made this determination pursuant to section 751(c) of the Act (19 U.S.C. 1675(c)). It completed and filed its determination in this review on February 13, 2018. The views of the Commission are contained in USITC Publication 4760 (February 2018), entitled Seamless Carbon and Alloy Steel Standard, Line, and Pressure Pipe from Germany, Inv. No. 731-TA-709 (Fourth Review).

By order of the Commission.
Issued: February 14, 2018.
Lisa R. Barton,
Secretary to the Commission.

[FR Doc. 2018-03359 Filed 2-16-18; 8:45 am]

BILLING CODE 7020-02-P